DEPARTMENT OF LABOR

Comment Request for Information Collection for the Ready to Work Partnership Grants Evaluation, New Collection

AGENCY: Office of the Assistant Secretary for Policy, Chief Evaluation Office, Department of Labor.

ACTION: Notice.

SUMMARY: The Department of Labor, as part of its continuing effort to reduce paperwork and respondent burden, conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents is properly assessed.

A copy of the proposed Information Collection Request (ICR) can be obtained by contacting the office listed in the addressee section of this notice.

DATES: Written comments must be submitted to the office listed in the addressee's section below on or before June 24, 2016.

ADDRESSES: You may submit comments by either one of the following methods: Email: ChiefEvaluationOffice@dol.gov; Mail or Courier: Molly Irwin, U.S. Department of Labor, Room S-2312, 200 Constitution Avenue NW., Washington, DC 20210.

FOR FURTHER INFORMATION CONTACT: Molly Irwin by telephone at 202-693-5091 (this is not a toll-free number) or by email at Chief EvaluationOffice@dol.gov.

SUPPLEMENTARY INFORMATION:

I. Background

The U.S. Department of Labor (DOL) is proposing a data collection activity as part of the H-1B Ready to Work Partnership Grants Evaluation Impact Study. The goal of the evaluation is determine the effectiveness of the H-1B grant-funded program in improving the labor market and other outcomes of program participants. For selected grantees, the impact study will randomly assign individuals to a group that can receive grant-funded programs or to a group that cannot access these services but who can participate in other services available in the community. The impact study will compare the employment and earnings and other outcomes of the groups to determine effectiveness of the H1-B Ready to Work training grants. The evaluation also includes an implementation study will describe services participants receive through the grantee programs, as well as provide operational lessons.

Data collection efforts previously approved for the H-1B Impact Study under OMB Control Number 1205-0507 include: Data collection activities for the implementation study, a study consent form, and a baseline information form for study participants. These collection activities will continue under the previously approved request.

This Federal Register Notice provides the opportunity to comment on a proposed new information collection activity for the H-1B Ready to Work Impact Study: A follow-up survey of sample members in the H-1B Ready to Work Impact Study, conducted approximately eighteen months after random assignment. The purposes of the study are to understand and document the: (1) Receipt of training and training-related supports; (2) educational attainment, including credential receipt; (3) factors that affect the ability to work (4) employment status, including job characteristics; (5) household composition; and (6) income and public benefits receipt.

II. Review Focus

DOL is soliciting comments concerning the above data collection for the H-1B Ready to Work Partnership Grants Evaluation. DOL is particularly interested in comments that do the following:

• Evaluate whether the proposed collection of information is necessary for the proper performance functions of the agency, including whether the information will have practical utility;

• Evaluate the accuracy of the agency's burden estimate of the proposed information collection, including the validity of the methodology and assumptions used;

• Enhance the quality, utility, and clarity of the information to be collected; and

• Minimize the burden of the collection of information on those who are to respond, including through the use of appropriate automated, electronic, mechanical, or other technological collection techniques or other forms of information technology (for example, permitting electronic submissions of responses).

III. Current Actions

DOL is requesting clearance for the follow-up survey of sample members in the H-1B Ready to Work Impact Study.

Type of Review: New collection.

Title: Ready to Work Partnership Grants Evaluation.

OMB Number: OMB Control Number 1205-0NEW.

Estimated Total Burden Hours
Activity | Total number of respondents | Annual number of respondents | Number of responses per respondent | Average burden hours per response | Total burden hours | Annual burden hours
18-month follow-up survey | * 4,016 | 1339 | 1 | .67 | 2691 | 897
Total |  | 1339 |  |  |  | 897
* Assumes a sample of 5,020 with an 80 percent response rate.

Affected Public: Participants applying for the Ready to Work Partnership Grant programs.

Form(s): 18-Month Follow-Up Survey.

Total respondents: 4,016.

Annual Frequency: One time.

Comments submitted in response to this comment request will be summarized and/or included in the request for Office of Management and Budget approval of the information collection request; they will also become a matter of public record.

Sharon Block,
Principal Deputy Assistant Secretary for Policy, U.S. Department of Labor.

[FR Doc. 2016-09571 Filed 4-22-16; 8:45 am]

BILLING CODE 4510-HX-P